DEPARTMENT OF THE INTERIOR

Bureau of Land Management

[LLUTY01000.14300000.ES0000.241A.00; UTU-87677]

Notice of Realty Action; Recreation and Public Purposes Act Classification, San Juan County, UT

AGENCY: Bureau of Land Management, Interior.

ACTION: Notice of Realty Action.

SUMMARY: The Bureau of Land Management (BLM) has examined and found suitable for classification for lease or conveyance to the Utah Division of Wildlife Resources (UDWR) under the provisions of the Recreation and Public Purposes (R&PP) Act, as amended, 20 acres of public land in San Juan County, Utah. The UDWR proposes to establish a public fishery in an existing reservoir.

DATES: Interested parties may submit written comments regarding this proposed classification until January 18, 2011.

ADDRESSES: Comments may be submitted to the BLM Moab Field Office, 82 East Dogwood Avenue, Moab, Utah 84532.

FOR FURTHER INFORMATION CONTACT: Jan Denney, BLM Moab Field Office, by phone at 435-259-2122 or by e-mail at Jan_Denney@blm.gov.

SUPPLEMENTARY INFORMATION: The BLM has examined and found the following described public land suitable for classification for lease or subsequent conveyance, under the provisions of the R&PP Act, as amended (43 U.S.C. 869 et seq.), and 43 CFR 2912 and 2740:

Salt Lake Meridian

T. 29 S., R. 24 E.,

Sec. 17, NW¼NE¼NW¼ and NE¼NW¼NW¼.

The area described contains 20.00 acres in San Juan County.

The land is not needed for any Federal purpose. The classification, and subsequent lease and/or conveyance, is consistent with the BLM Moab Resource Management Plan, dated October 31, 2008, Lands and Realty Decision LAR-5, Appendix G at G.1.4, and is in the public interest. An environmental assessment has been prepared that analyzes the UDWR application and proposed plans of development and management. Any lease and/or conveyance will be subject to the provisions of the R&PP Act, applicable regulations of the Secretary of the Interior, and the following reservations to the United States:

1. A right-of-way thereon for ditches or canals constructed by the authority of the United States, Act of August 30, 1890 (43 U.S.C. 945);

2. All minerals, together with the right to prospect for, mine, and remove such deposits from the same under applicable law and such regulations as the Secretary of the Interior may prescribe.

3. An appropriate indemnification clause protecting the United States from claims arising out of the lessee's/patentee's use, occupancy, or operations on the leased/patented lands.

4. A written acceptance of all maintenance responsibilities for the claim and spillway and all obligations of the owners under 33 U.S.C. 467 et seq.

The lease/conveyance will also be subject to valid existing rights.

Upon publication of this notice in the Federal Register, the land described above will be segregated from all other forms of appropriation under the public land laws, including the general mining laws, except for lease or conveyance under the R&PP Act and leasing under the mineral leasing laws.

Classification Comments: Interested parties may submit comments involving the suitability of the land for a public fishery. Comments on the classification are restricted to whether the land is physically suited for the proposal, whether the use will maximize the future use or uses of the land, whether the use is consistent with local planning and zoning, or whether the use is consistent with State and Federal programs.

Application Comments: Interested parties may submit comments regarding the specific use proposed in the application, whether the BLM followed proper administrative procedures in reaching the decision, or any other factors not directly related to the suitability of the land for a public fishery.

Before including your address, phone number, e-mail address, or other personal identifying information in your comment, you should be aware that your entire comment, including your personal identifying information, may be made publicly available at any time. While you can ask us in your comment to withhold your personal identifying information from public review, we cannot guarantee that we will be able to do so.

The BLM State Director will review any adverse comments. In the absence of any adverse comments, the classification will become effective February 1, 2011.

Authority: 43 CFR 2741.5 (h).

Juan Palma,
State Director.

[FR Doc. 2010-30305 Filed 12-2-10; 8:45 am]

BILLING CODE 4310-DQ-P